DEPARTMENT OF COMMERCE

Patent and Trademark Office

Submission for OMB Review; Comment Request; “International Work Sharing”

The United States Patent and Trademark Office (USTPO) will submit to the Office of Management and Budget (OMB) for clearance the following proposal for collection of information under the provisions of the Paperwork Reduction Act (44 U.S.C. Chapter 35).

Agency: United States Patent and Trademark Office (USPTO).

Title: International Work Sharing.

OMB Control Number: 0651-0079.

Form Number(s):

• PTO/SB/437JP

• PTO/SB/437KR

• PTO/SB/CSP Survey 1

Type of Request: Regular.

Number of Respondents: 900.

Average Hours per Response: The USPTO estimates that it will take the public between 5 minutes (.08 hours) and 3 hours, depending upon the complexity of the situation, to gather the necessary information, prepare for submission, and submit a single item in this collection.

Burden Hours: 1533.33.

Cost Burden: $0.

Needs and Uses: This information collection is necessary so that applicants that file applications with the USPTO, Japan Patent Office, and Korean Intellectual Property Office may participate in the International Work Sharing Program. The Program enables its participants to engage in the exchange of IP documents between the patent offices of the United States, Japan, and Korea in order to facilitate efficient worldwide patent examinations.

Affected Public: Individuals or households; businesses or other for-profits; and not-for-profit institutions.

Frequency: On occasion.

Respondent's Obligation: Voluntary.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0079 copy request” in the subject line of the message.

• Mail: Marcie Lovett, Records Management Division Director, Office of the Chief Information Officer, United States Patent and Trademark Office, P.O. Box 1450, Alexandria, VA 22313-1450.

Written comments and recommendations for the proposed information collection should be sent on or before January 15, 2016 to Nicholas A. Fraser, OMB Desk Officer, via email to Nicholas_A._Fraser@omb.eop.gov, or by fax to 202-395-5167, marked to the attention of Nicholas A. Fraser.

Marcie Lovett,
Records Management Division Director, USPTO, Office of the Chief Information Officer.

[FR Doc. 2015-31585 Filed 12-15-15; 8:45 am]

BILLING CODE 3510-16-P